DEPARTMENT OF ENERGY

Federal Energy Regulatory Commission

Combined Notice of Filings #1

Take notice that the Commission received the following electric corporate filings:

Docket Numbers: EC19-76-000.

Applicants: Osceola Windpower, LLC, Endeavor Wind I, LLC.

Description: Application for Authorization Under Section 203 of the Federal Power Act, et al. of Osceola Windpower, LLC, et al.

Filed Date: 4/5/19.

Accession Number: 20190405-5190.

Comments Due: 5 p.m. ET 4/26/19.

Take notice that the Commission received the following electric rate filings:

Docket Numbers: ER15-2594-007; ER17-953-003.

Applicants: GridLiance High Plains LLC.

Description: Compliance filing of GridLiance High Plains LLC.

Filed Date: 4/5/19.

Accession Number: 20190405-5197.

Comments Due: 5 p.m. ET 4/26/19.

Docket Numbers: ER16-505-005.

Applicants: GridLiance High Plains LLC.

Description: Compliance filing: GridLiance HP Compliance Filing ER16-505 to be effective 4/1/2016.

Filed Date: 4/5/19.

Accession Number: 20190405-5148.

Comments Due: 5 p.m. ET 4/26/19.

Docket Numbers: ER18-2401-002.

Applicants: PJM Interconnection, L.L.C.

Description: Compliance filing: Further Compliance Filing Concerning Order No. 844 to Amend Effective Date to be effective 1/1/2019.

Filed Date: 4/8/19.

Accession Number: 20190408-5081.

Comments Due: 5 p.m. ET 4/29/19.

Docket Numbers: ER19-1530-000.

Applicants: NextEra Energy Transmission West, LLC.

Description: § 205(d) Rate Filing: Horizon West Transmission, LLC Notice of Succession to be effective 3/13/2019.

Filed Date: 4/5/19.

Accession Number: 20190405-5147.

Comments Due: 5 p.m. ET 4/26/19.

Docket Numbers: ER19-1531-000.

Applicants: AEP Indiana Michigan Transmission Company, PJM Interconnection, L.L.C.

Description: § 205(d) Rate Filing: AEP Indiana Michigan submits three Contribution in Aid of Construction Agreement to be effective 3/27/2019.

Filed Date: 4/8/19.

Accession Number: 20190408-5098.

Comments Due: 5 p.m. ET 4/29/19.

Docket Numbers: ER19-1532-000.

Applicants: GenOn REMA, LLC.

Description: § 205(d) Rate Filing: Notice of Succession, Revisions to Reactive Service Rate Schedule to be effective 3/11/2019.

Filed Date: 4/8/19.

Accession Number: 20190408-5142.

Comments Due: 5 p.m. ET 4/29/19.

Docket Numbers: ER19-1533-000.

Applicants: GenOn Power Midwest, LP.

Description: Tariff Cancellation: Request for Administrative Cancellation and Request for Waivers to be effective 9/30/2012.

Filed Date: 4/8/19.

Accession Number: 20190408-5143.

Comments Due: 5 p.m. ET 4/29/19.

Docket Numbers: ER19-1534-000.

Applicants: GenOn Power Midwest, LP.

Description: § 205(d) Rate Filing: Notice of Succession and Revisions to Reactive Service Rate Schedule to be effective 3/8/2019.

Filed Date: 4/8/19.

Accession Number: 20190408-5145.

Comments Due: 5 p.m. ET 4/29/19.

Docket Numbers: ER19-1535-000.

Applicants: Lower Mount Bethel Energy, LLC.

Description: Tariff Cancellation: Notice of Cancellation to be effective 4/8/2019.

Filed Date: 4/8/19.

Accession Number: 20190408-5152.

Comments Due: 5 p.m. ET 4/29/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 8, 2019.
Nathaniel J. Davis, Sr.,
Deputy Secretary.

[FR Doc. 2019-07360 Filed 4-12-19; 8:45 am]

BILLING CODE 6717-01-P